ENVIRONMENTAL PROTECTION AGENCY

40 CFR Part 52

[TX-125-1-7463b; FRL-6840-2]

Approval and Promulgation of Implementation Plans; Texas; Revisions to Emergency Episode Plan Regulations

AGENCY: Environmental Protection Agency (EPA).

ACTION: Proposed rule.

SUMMARY: The EPA is proposing to approve revisions to the Texas Natural Resource Conservation Commission emergency episode plan regulations in the Texas State Implementation Plan (SIP). These revisions update statutory citations, update references to the commission, and change various wordings to improve readability.

In the “Rules and Regulations” section of this Federal Register, EPA is approving the State's SIP revision as a direct final rule without prior proposal because EPA views this as a noncontroversial revision and anticipates no adverse comment. The EPA has explained its reasons for this approval in the preamble to the direct final rule. If EPA receives no relevant adverse comment, EPA will not take further action on this proposed rule. If EPA receives relevant adverse comment, EPA will withdraw the direct final rule and it will not take effect. The EPA will address all public comments in a subsequent final rule based on this proposed rule. The EPA will not institute a second comment period on this action. Any parties interested in commenting must do so at this time.

DATES: Written comments must be received by August 25, 2000.

ADDRESSES: Written comments should be addressed to Mr. Thomas H. Diggs, Chief, Air Planning Section (6PD-L), at the EPA Region 6 Office listed below. Copies of documents relevant to this action are available for public inspection during normal business hours at the following locations. Anyone wanting to examine these documents should make an appointment with the appropriate office at least two working days in advance.

Environmental Protection Agency, Region 6, Air Planning Section (6PD-L), 1445 Ross Avenue, Dallas, Texas 75202-2733.

Texas Natural Resource Conservation Commission, Office of Air Quality, 12124 Park 35 Circle, Austin, Texas 78753.

FOR FURTHER INFORMATION CONTACT: Bill Deese of the EPA Region 6 Air Planning Section at (214) 665-7253 at the address above.

SUPPLEMENTARY INFORMATION: This document concerns revisions to the emergency episode plan regulations in the Texas SIP. For further information, please see the information provided in the direct final action that is located in the “Rules and Regulations” section of this Federal Register publication.

Authority: 42 U.S.C. 7401 et seq.

Dated: July 14, 2000.
Julie Jensen,
Acting Regional Administrator, Region 6.

[FR Doc. 00-18788 Filed 7-25-00; 8:45 am]

BILLING CODE 6560-50-P